FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 12, 2010.

A. Federal Reserve Bank of Chicago (Colette A. Fried, Assistant Vice President) 230 South LaSalle Street, Chicago, Illinois 60690-1414:

1. Carol O'Leary, Medford, Wisconsin, as an individual; and Carol O'Leary, Medford, Wisconsin; Tristar Printing Co., Inc., Abbotsford, Wisconsin; Kevin S. Flink and Kristine M. O'Leary, both of Abbotsford, Wisconsin; and Willis R. Whetstone, Medford, Wisconsin, as a group acting in concert to retain control of Central Wisconsin Bancorporation, Inc., and thereby indirectly acquire Community Bank of Central Wisconsin, both of Colby, Wisconsin.

B. Federal Reserve Bank of San Francisco (Kenneth Binning, Vice President, Applications and Enforcement) 101 Market Street, San Francisco, California 94105-1579:

1. Park Randal Roney, Mapleton, Utah, Blake Marshal Roney, Provo, Utah, Robert Tod Monsen, Mapleton, Utah, and Steven Jay Lund, of Provo, Utah; to acquire voting shares of Community Bancorporation, Pleasant Grove, Utah, and thereby indirectly acquire voting shares of Western Community Bank, Orem, Utah.

Board of Governors of the Federal Reserve System, February 22, 2010.
Robert deV. Frierson,
Deputy Secretary of the Board.

[FR Doc. 2010-3810 Filed 2-24-10; 8:45 am]

BILLING CODE 6210-01-S